DEPARTMENT OF THE INTERIOR

Bureau of Land Management

[18X.LLAK910000. L13100000. DB0000. LXSINSSI0000]

Notice of Public Meeting, North Slope Science Initiative—Science Technical Advisory Panel, Alaska

AGENCY: Bureau of Land Management Alaska, North Slope Science Initiative, Interior.

ACTION: Notice of Public Meeting.

SUMMARY: In accordance with the Federal Land Policy and Management Act of 1976, the Energy Policy Act of 2005, and the Federal Advisory Committee Act of 1972, the U.S. Department of the Interior, Bureau of Land Management North Slope Science Initiative—Science Technical Advisory Panel will meet as indicated below.

DATES: The Science Technical Advisory Panel will meet on November 7 and 8, 2017. The Panel will meet from 8:30 a.m. to 5:00 p.m. both days.

ADDRESSES: The meeting will be held at the Robert B. Atwood Building, Room 102, 550 West Seventh Avenue, Anchorage, Alaska.

FOR FURTHER INFORMATION CONTACT: Dr. Mark Miller, Deputy Director, North Slope Science Initiative, Bureau of Land Management, 222 West Seventh Avenue, #13, Anchorage, AK 99513, telephone 907-271-3212, or email memiller@blm.gov. People who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: Authorized by Public Law 109-58, Sec. 348 (42 U.S.C. 15906) of the Energy Policy Act of 2005, the Science Technical Advisory Panel provides advice and recommendations to the North Slope Science Initiative Oversight Group about priority information requirements for management decisions across the North Slope of Alaska. These priority information requirements and recommendations may include inventory, monitoring, and research activities that contribute to informed resource management decisions. The Secretary of the Interior appoints panel members who represent various scientific and technical disciplines.

This meeting will include continued consideration of recommendations from the recent North Slope Development Scenarios Project; development of a communications plan to facilitate North Slope Science Initiative actions for ensuring effective coordination of monitoring and research activities; and evaluation and development of strategies for minimizing effects of monitoring and research activities on North Slope residents and subsistence resources.

There will be a public comment period from 3:30 p.m. until 4:00 p.m. on Tuesday, November 7. Depending on the number of people wishing to comment within the scheduled time available, there may be limited time for individuals to speak. Individuals who plan to attend and need special assistance, such as sign language interpretation, transportation, or other reasonable accommodations, should contact the North Slope Science Initiative Deputy Director. The public may present written comments to the Science Technical Advisory Panel through the North Slope Science Initiative Deputy Director. Before including your address, phone number, email address, or other personal identifying information in your comment, you should be aware that your entire comment—including your personal identifying information—may be made publicly available. While you can ask us in your comment to withhold your personal identifying information from public review, we cannot guarantee that we will be able to do so.

Authority: 42 U.S.C. 15906; 43 CFR 1784.4-2.

John F. Ruhs,
Acting Deputy Director, Bureau of Land Management.

[FR Doc. 2017-23047 Filed 10-23-17; 8:45 am]

BILLING CODE 4310-JA-P